FEDERAL COMMUNICATIONS COMMISSION

Notice of Public Information Collection(s) Being Reviewed by the Federal Communications Commission, Comments Requested

May 3, 2000.

SUMMARY: The Federal Communications Commission, as part of its continuing effort to reduce paperwork burden invites the general public and other Federal agencies to take this opportunity to comment on the following information collection, as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before July 11, 2000. If you anticipate that you will be submitting comments, but find it difficult to do so within the period of time allowed by this notice, you should advise the contact listed below as soon as possible.

ADDRESSES: Direct all comments to Les Smith, Federal Communications Commission, 445 12th Street, SW., Room 1-A804, Washington, DC 20554 or via the Internet to lesmith@fcc.gov.

FOR FURTHER INFORMATION CONTACT: For additional information or copies of the information collections contact Les Smith at (202) 418-0217 or via the Internet at lesmith@fcc.gov.

SUPPLEMENTARY INFORMATION: OMB Approval Number: 3060-0783.

Title: Section 90.176 Coordination notification requirements on frequencies below 512 MHz.

Form Number: N/A.

Type of Review: New collection.

Respondents: Business or other for-profit.

Number of Respondents: 15.

Estimated Time Per Response: .25 hours.

Total Annual Burden: 975 hours.

Total Annual Cost: 0.

Needs and Uses: The reporting requirement in section 90.176 is a result of comments sought in the Report and Order and Further Notice of Proposed Rule Making in PR Dck No. 92-235 and requires each Private Land Mobile frequency coordinator provide, within one business day, a listing of their frequency recommendations to all other frequency coordinators in their respective pool, and, if requested, an engineering analyses. This requirement is necessary to avoid situations where harmful interference is created because two or more coordinators recommend the same frequency in the same area at approximately the same time to different applicants.

OMB Approval Number: 3060-0798.

Title: FCC Application for Wireless Telecommunications Bureau Radio Service Authorization.

Form Number: FCC 601.

Type of Review: Revision of an existing collection.

Respondents: Individuals or households; Business or other for-profit; Not-for-profit institutions; State, Local or Tribal Government.

Number of Respondents: 240,320.

Estimated Time Per Response: 1.25 hours.

Total Annual Burden: 210,280 hours.

Needs and Uses: FCC 601 is used as the general application (long form) for market based licensing and site-by-site licensing in the Wireless Telecommunications Radio Services. The purpose of this revision is to make the necessary changes for the 700 MHz Band and 700 MHz Guard Band Auctions and to convert the Land Mobile Services (Part 90) to ULS. We sought emergency clearance on these changes in order to allow form changes to be in place for the auctions scheduled for the beginning of June and are now seeking a 3 year clearance. The information is used by the Commission to determine whether the applicant is legally, technically and financially qualified to be licensed.

Respondent costs are estimated to be $48,364,000, which includes application filing fees.

OMB Control Number: 3060-0773.

Title: Marketing of RF Devices Prior to Equipment Authorization—Section 2.830.

Form Number: N/A.

Type of Review: Extension of currently approved collection.

Respondents: Businesses or other for-profit entities.

Number of Respondents: 6,000.

Estimated Time Per Response: .5 hour.

Total Annual Burden: 3,000 hours.

Total Annual Cost: N.A.

Needs and Uses: FCC rules permit the display and advertising of radio frequency devices prior to equipment authorization or a determination of compliance with the rules, providing that the advertising or display contains a conspicuous notice as specified by the rules. The notice that must be displayed is defined in section 2.803©. A notice that applies specifically to prototype equipment is defined in section 2.803©(2) of any RF device that is offered for sale to specific entities defined in the rule part, prior to equipment authorization or a showing of compliance, must be accompanied by a written notice that the equipment is subject to the FCC rules and will comply with all FCC rules prior to delivery. The information is disclosed to third parties to ensure that they are fully aware of the FCC's requirement for the responsible party to fully comply with the Commission rules.

Federal Communications Commission.
Magalie Roman Salas,
Secretary.

[FR Doc. 00-11973 Filed 5-11-00; 8:45 am]

BILLING CODE 6712-01-U